DEPARTMENT OF DEFENSE

Office of the Secretary

[Docket ID: DoD-2023-OS-0018]

Proposed Collection; Comment Request

AGENCY: Office of the Under Secretary of Defense (Comptroller)/Chief Financial Officer, Department of Defense (DoD).

ACTION: 60-Day information collection notice.

SUMMARY: In compliance with the Paperwork Reduction Act of 1995, the Defense Finance and Accounting Services (DFAS) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 1, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Department of Defense, Washington Headquarters Services, ATTN: Executive Services Directorate, Directives Division, 4800 Mark Center Drive, Suite 03F09-09, Alexandria, VA 22350-3100, Angela Duncan, 571-372-7574.

SUPPLEMENTARY INFORMATION:

Title; Associated Form; and OMB Number: Application for Former Spouse Payments from Retired Pay, DD Form 2293; OMB Number 0730-0008.

Needs and Uses: The information collection requirement is necessary to provide DFAS with the basic data needed to process court orders for division of military retired pay as property or order alimony and child support payment from that retired pay per title 10 U.S.C. 1408.

Affected Public: Individuals or households.

Annual Burden Hours: 12,500.

Number of Respondents: 25,000.

Responses per Respondent: 1.

Annual Responses: 25,000.

Average Burden per Response: 30 minutes.

Frequency: On occasion.

The respondents to this information collection are spouses or former spouses (herein referred to as applicant) of military members who access the form through the DoD forms website. The applicant submits through U.S. Mail Service or by fax a DD Form 2293, “Application for Former Spouse Payments from Retired Pay,” to DFAS and a copy of a court order that requires the division of a member's military retired pay, or orders the member to make monthly payment of either child support or alimony. The information from the DD Form 2293 is used by DFAS to process the applicant's request as authorized under title 10 U.S.C. 1408.

The information is required to properly identify the former spouse applicant and identify the service member, whose retired pay is to be deducted, by name, address and social security number. The DD Form 2293 was devised to standardize applications for payment under the Act. Information on the form is also used to determine the applicant's current status and contains the statutory required certifications the applicant/former spouse must make when applying for payments.

After the application is reviewed for sufficiency, the application and the military member are advised whether the application will be honored or rejected, any further documentation needed, and if applicable, notifies when payments to the former spouse will be implemented by mail. The mail templates used to notify applicant if application is being honored or rejected will be submitted as part of the collection package.

Dated: February 23, 2023.
Aaron T. Siegel,
Alternate OSD Federal Register Liaison Officer, Department of Defense.

[FR Doc. 2023-04100 Filed 2-27-23; 8:45 am]

BILLING CODE 5001-06-P